DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains in the possession of the Denver Museum of Nature & Science, Denver, CO. The human remains were removed from an unknown location in Florida.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by the Denver Museum of Nature & Science professional staff in consultation with representatives of the Miccosukee Tribe of Indians of Florida; Seminole Nation of Oklahoma; and Seminole Tribe of Florida, Dania, Big Cypress, Brighton, Hollywood & Tampa Reservations.

Between 1910 and 1911, human remains representing a minimum of one individual were removed from an unknown location in Florida. Sometime between 1910 and 1911, the human remains came into the possession of Jesse H. Bratley. After Mr. Bratley's death in 1948, the human remains came into the possession of Mr. Bratley's daughter, Hazel Bratley. In 1961, Mary W.A. Crane and Francis V. Crane purchased the human remains from Ms. Bratley. In 1983, the Cranes donated the human remains to the museum, and the museum accessioned the human remains into the collection in the same year. No known individual was identified. No associated funerary objects are present.

Based on provenience, museum records, research, and consultations with the Seminole Nation of Oklahoma; and Seminole Tribe of Florida, Dania, Big Cypress, Brighton, Hollywood & Tampa Reservations, the human remains are determined to be Native American of Seminole ancestry. Mr. Bratley resided in Homestead, FL, in 1910 and moved to Miami, FL, in 1911. During this time, Mr. Bratley photographed Seminole people. His records mentioned that he acquired “sacral & pubic bones and some smaller ones,” and recorded the culture of the human remains as “Seminole.” Historical and archeological evidence establish that Seminole and Miccosukee people have been residents in central and southern Florida for several hundred years. In consultations, Seminole delegates confirmed their affiliation with earlier historic American Indians in Florida and indicated that the individual is probably one of their ancestors. The Miccosukee Tribe of Indians of Florida were consulted and requested that the human remains be reburied in Florida but did not indicate a direct cultural affiliation with the human remains.

Officials of the Denver Museum of Nature & Science have determined that, pursuant to 25 U.S.C. 3001 (9-10), the human remains listed above represent the physical remains of a minimum of one individual of Native American ancestry. Officials of the Denver Museum of Nature & Science also have determined that, pursuant to 25 U.S.C. 3001 (2), there is a relationship of shared group identity that can be reasonably traced between the Native American human remains and the Seminole Nation of Oklahoma and Seminole Tribe of Florida, Dania, Big Cypress, Brighton, Hollywood & Tampa Reservations.

Representatives of any other Indian tribe that believes itself to be culturally affiliated with the human remains should contact Dr. Ella Maria Ray, NAGPRA Officer, Department of Anthropology, Denver Museum of Nature & Science, 2001 Colorado Boulevard, Denver, CO 80205, telephone (303) 370-6056, before July 7, 2004. Repatriation of the human remains to the Seminole Tribe of Florida, Dania, Big Cypress, Brighton, Hollywood & Tampa Reservations and Seminole Nation of Oklahoma may proceed after that date if no additional claimants come forward.

The Denver Museum of Nature & Science is responsible for notifying the Miccosukee Tribe of Indians of Florida; Seminole Nation of Oklahoma; and Seminole Tribe of Florida, Dania, Big Cypress, Brighton, Hollywood & Tampa Reservations that this notice has been published.

Dated: April 23, 2004.
John Robbins,
Assistant Director, Cultural Resources.

[FR Doc. 04-12661 Filed 6-4-04; 8:45 am]

BILLING CODE 4310-50-S